DEPARTMENT OF AGRICULTURE

Forest Service

Directive Publication Notice

AGENCY: Forest Service, Agriculture (USDA).

ACTION: Notice.

SUMMARY: The Forest Service, U.S. Department of Agriculture, provides direction to employees through issuances in its Directive System, comprised of the Forest Service Manual and Forest Service Handbooks. The Agency must provide public notice of and opportunity to comment on any directives that formulate standards, criteria, or guidelines applicable to Forest Service programs. Once per quarter, the Agency provides advance notice of proposed and interim directives that will be made available for public comment during the next three months and notice of final directives issued in the last three months. No directives are planned for publication for public comment between October 1, 2021, and December 31, 2021. No proposed or interim directives that were previously published for public comment have been issued since July 1, 2021.

DATES: This notice identifies proposed and interim directives that were published for public comment but not yet finalized and issued, and final directives that have been issued since July 1, 2021.

ADDRESSES: Questions or comments may be provided by email to SM.FS.Directives@usda.gov or in writing to 201 14th Street SW, Washington, DC 20250, Attn: Directives and Regulations staff, Mailstop 1132.

FOR FURTHER INFORMATION CONTACT: Hector Ortiz at 703-236-2617 or hector.ortiz@usda.gov.

Individuals who use telecommunications devices for the deaf/hard-of-hearing (TDD) may call the Federal Relay Service (FRS) at 1-800-877-8339, 24 hours a day, every day of the year, including holidays.

You may sign up to receive email alerts at https://www.fs.usda.gov/about-agency/regulations-policies.

SUPPLEMENTARY INFORMATION:

Proposed or Interim Directives

Consistent with 16 U.S.C. 1612(a) and 36 CFR part 216, Public Notice and Comment for Standards, Criteria and Guidance Applicable to Forest Service Programs, the Forest Service publishes for public notice and comment Agency directives that formulate standards, criteria, or guidelines applicable to Forest Service programs. Agency procedures for providing public notice and opportunity to comment are specified in Forest Service Handbook (FSH) 1109.12, Chapter 30, Providing Public Notice and Opportunity to Comment on Directives.

The Forest Service has no proposed or interim directives planned for publication for public comment from October 1, 2021 to December 31, 2021.

Previously Published Directives That Have Not Been Finalized

The following proposed or interim directives have been published for public comment but not yet finalized:

1. Proposed Forest Service Manual (FSM) 2200, Rangeland Management, Chapters Zero Code; 2210, Rangeland Management Planning; 2220, Management of Rangelands (Reserved); 2230, Grazing Permit System; 2240, Rangeland Improvements; 2250, Rangeland Management Cooperation; and 2270, Information Management and Reports; Forest Service Handbook 2209.13, Grazing Permit Administration Handbook, Chapters 10, Term Grazing Permits; 20, Grazing Agreements; 30, Temporary Grazing and Livestock Use Permits; 40, Livestock Use Permits; 50, Tribal Treaty Authorizations and Special Use Permits; 60, Records; 70, Compensation for Permittee Interests in Rangeland Improvements; 80, Grazing Fees; and 90, Rangeland Management Decision Making; and Forest Service Handbook 2209.16, Allotment Management Handbook, Chapter 10, Allotment Management and Administration.

2. Interim Forest Service Manual 2719, Special Use Authorizations Involving Storage and Use of Explosives and Magazine Security, and Forest Service Handbook 2709.11, Special Uses Handbook, Chapter 50, Standard Forms and Supplemental Clauses.

3. Forest Service Manual 7700, Travel Management, Chapters Zero and 10, Travel Planning.

4. Forest Service Manual 2400, Timber Management, Chapters Zero, 2430, Commercial Timber Sales; 2440, Designating, Cruising, Scaling, and Accountability; 2450, Timber Sale Contract Administration; and 2460, Uses of Timber Other Than Commercial Timber Sales; Forest Service Handbook 2409.15, Timber Sale Administration, Chapters Zero, 10, Fundamentals of Timber Sale Contracting; 30, Change in Status of Contracts; 50, Specified Transportation Facilities; and 70, Contract Claims and Disputes; Forest Service Handbook 2409.18a, Timber Sale Debarment and Suspension Procedures, Chapters Zero, 10, Non-procurement Debarment and Suspension; and 20, Debarment and Export Violations.

5. Forest Service Manual 3800, Landscape Scale Restoration Program.

6. Forest Service Manual 2700, Special Uses Management, Chapter 40, Vegetation Management Pilot Projects, and Forest Service Handbook 2709.11, Special Uses Handbook, Chapter 50, Standard Forms and Supplemental Clauses.

7. Forest Service Handbook 2709.11, Special Uses Handbook, Chapter 80, Operating Plans and Agreements for Powerline Facilities.

8. Forest Service Manual 2400, Timber Management, Chapter 2420, Timber Appraisal; Forest Service Handbook 2409.19, Renewable Resources Handbook, Chapters 10, Knutson-Vandenberg Sale Area Program Management Handbook; 20, Knutson-Vandenberg Forest and Regional Program Management; 60, Stewardship Contracting; and 80, Good Neighbor Authority.

9. Forest Service Manual 1820, Public Lands Corps and Resource Assistants Program.

10. Forest Service Handbook 5509.11, Chapter 20, Section 21, Small Tracts Act Adjustments.

11. Region 10 Supplement to Forest Service Manual 2720, Special Uses; Management of Point-To-Point Transport Under Special Use Authorization to National Forest System Lands within the Visitor Center Subunit of Mendenhall Glacier Recreation Area.

Directives That Have Been Issued Since July 1, 2021

No proposed or interim directives that were previously published for public comment have been issued since July 1, 2021.

Dated: November 23, 2021.
Hector Ortiz,
Branch Chief (Acting), Directives and Regulations.

[FR Doc. 2021-25888 Filed 11-26-21; 8:45 am]

BILLING CODE 3411-15-P